DEPARTMENT OF THE TREASURY

Submission for OMB Review; Comment Request

September 24, 2013.

The Department of the Treasury will submit the following information collection request to the Office of Management and Budget (OMB) for review and clearance in accordance with the Paperwork Reduction Act of 1995, Public Law 104-13, on or after the date of publication of this notice.

DATES: Comments should be received on or before October 28, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Bureau of the Fiscal Service

OMB Number: 1510-0012.

Type of Review: Revision of a currently approved collection.

Title: Annual Financial Statements of Surety Companies—Schedule F.

Form: FMS 6314.

Abstract: The Schedule F provides a listing of Treasury authorized and unauthorized reinsurers for purposes of determining an amount of unauthorized ceded reinsurance that may be offset against a company's net worth in determining the company's treasury underwriting limitations. The collection is to assure that a currently certified company is solvent and able to carry out its contracts.

Affected Public: Private Sector: Businesses or other for-profits.

Estimated Annual Burden Hours: 6,724.

Dawn D. Wolfgang,
Treasury PRA Clearance Officer.

[FR Doc. 2013-23549 Filed 9-26-13; 8:45 am]

BILLING CODE 4810-35-P